DEPARTMENT OF THE INTERIOR

Fish and Wildlife Service

Arthur R. Marshall Loxahatchee National Wildlife Refuge; Comprehensive Conservation Plan, Environmental Assessment and Finding of No Significant Impact

ACTION: Notice of Availability.

SUMMARY: The Fish and Wildlife Service has published a Comprehensive Conservation Plan, Environmental Assessment, and a Finding of No Significant Impact for the Arthur R. Marshall Loxahatchee National Wildlife Refuge. This refuge, located seven miles west of Boynton Beach, Florida, consists of 221 square miles of the last remaining northern Everglades. The plan describes how the Fish and Wildlife Service intends to manage the refuge for the next 15 years.

ADDRESSES: A copy of the above documents will be available on October 6, 2000, and may be obtained by writing to Mark J. Musaus, Refuge Manager, Arthur R. Marshall Loxahatchee National Wildlife Refuge, U.S. Fish and Wildlife Service, 10216 Lee Road, Boynton Beach, Florida 33437-4796. In the meantime, a copy of the Comprehensive Conservation Plan and Environmental Assessment can be obtained from the following website address: http://loxahatchee.fws.gov

SUMMARY INFORMATION: The plan provides a clear statement regarding the future management of the refuge; ensures that the refuge's management actions are consistent with refuge purposes and mandates of the National Wildlife Refuge System; and addresses the issues regarding the renewal (planned by January 1, 2002) of the refuge's license agreement with the South Florida Water Management District, including issues relating to modifying the agreement and management capabilities and responsibilities. The major issues addressed in the plan include invasive exotic species; biological diversity; water quality, quantity, timing, and delivery; land use changes; habitat and wildlife protection; appropriate and compatible wildlife-dependent public recreational opportunities and access; environmental education and interpretation; and partnerships.

Dated: September 19, 2000.
Steven P. Thompson,
Acting Regional Director.

[FR Doc. 00-25712 Filed 10-5-00; 8:45 am]

BILLING CODE 4310-55-M